COMMISSION ON CIVIL RIGHTS

Notice of Public Meeting of the South Dakota Advisory Committee to the U.S. Commission on Civil Rights

AGENCY: U.S. Commission on Civil Rights.

ACTION: Announcement of public meeting.

SUMMARY: Notice is hereby given, pursuant to the provisions of the rules and regulations of the U.S. Commission on Civil Rights (Commission), and the Federal Advisory Committee Act (FACA), that the South Dakota State Advisory Committee to the Commission will convene a business meeting on Monday, May 8, 2023, at 1:00 p.m. Central Time. The purpose of the business meeting is to discuss and vote on the committee's report on voting rights and voter access in South Dakota.

DATES: Monday, May 8, 2023, at 1 p.m. central time.

ADDRESSES: The meeting will be held via Zoom.

Meeting Link (Audio/Visual): https://tinyurl.com/3stmv9et; password, if needed: USCCR-SD.

Join by Phone (Audio Only): 1-551-285-1373; Meeting ID: 160 729 5158#.

FOR FURTHER INFORMATION CONTACT: Mallory Trachtenberg at mtrachtenberg@usccr.gov or 312-353-8311.

SUPPLEMENTARY INFORMATION: This committee meeting is available to the public through the meeting link above. Any interested member of the public may listen to the meeting. An open comment period will be provided to allow members of the public to make a statement as time allows. Per the Federal Advisory Committee Act, public minutes of the meeting will include a list of persons who are present at the meeting. If joining via phone, callers can expect to incur regular charges for calls they initiate over wireless lines, according to their wireless plan. The Commission will not refund any incurred charges. Callers will incur no charge for calls they initiate over land-line connections to the toll-free telephone number. Closed captioning will be available for individuals who are deaf, hard of hearing, or who have certain cognitive or learning impairments. To request additional accommodations, please email ebohor@usccr.gov at least 10 business days prior to the meeting.

Members of the public are entitled to submit written comments; the comments must be received in the regional office within 30 days following the meeting. Written comments may be emailed to Mallory Trachtenberg at mtrachtenberg@usccr.gov. Persons who desire additional information may contact the Regional Programs Coordination Unit at 1-312-353-8311.

Records generated from this meeting may be inspected and reproduced at the Regional Programs Coordination Unit Office, as they become available, both before and after the meeting. Records of the meetings will be available via www.facadatabase.gov under the Commission on Civil Rights, South Dakota Advisory Committee link. Persons interested in the work of this Committee are directed to the Commission's website, http://www.usccr.gov, or may contact the Regional Programs Coordination Unit at ebohor@usccr.gov.

Agenda

I. Welcome and Roll Call

II. Announcements

III. Discussion and Vote: Report on Voting Rights and Voter Access in South Dakota

IV. Public Comment

V. Adjournment

Dated: April 18, 2023.
David Mussatt,
Supervisory Chief, Regional Programs Unit.

[FR Doc. 2023-08494 Filed 4-20-23; 8:45 am]

BILLING CODE P